AGENCY FOR INTERNATIONAL DEVELOPMENT

Notice of Meeting

Pursuant to the Federal Advisory Committee Act, notice is hereby given of a meeting of the Advisory Committee on Voluntary Foreign Aid (ACVFA).

Date: Friday, June 15, 2012.

Registration: 8 a.m. to 9 a.m.

Time: 9 a.m. to 12 p.m.

Location: Georgetown University, Healy Hall Lawn (site of ACVFA meeting tent), 37th and O Streets NW., Washington, DC 20057.

Agenda

USAID Administrator Rajiv Shah will make opening remarks, followed by panel discussions among ACVFA members and USAID leadership, and open Q&A. A draft agenda and additional information will be forthcoming on the ACVFA Web site at http://www.usaid.gov/about_usaid/acvfa.

Stakeholders

The meeting is free and open to the public. Persons wishing to attend should register online at http://transition.usaid.gov/about_usaid/acvfa/acvfaregistration.html. For additional information please contact Paloma Adams-Allen at (202) 712-4378 or PAdamsA@usaid.gov.

Dated: May 29, 2012.
Paloma Adams-Allen,
ACVFA Executive Director (A).

[FR Doc. 2012-13351 Filed 5-31-12; 8:45 am]

BILLING CODE P